DEPARTMENT OF THE INTERIOR

Bureau of Land Management

[BLM_MT_FRN_MO#4500161776]

Notice of Realty Action: Recreation and Public Purposes Act Classification and Segregation for Philipsburg Park and Trails, Granite County, MT

AGENCY: Bureau of Land Management, Interior.

ACTION: Notice of realty action.

SUMMARY: The Bureau of Land Management (BLM) has examined 15.59 acres of public lands in Granite County, Montana, and has found them suitable for classification for conveyance to the town of Philipsburg under the provisions of the Recreation and Public Purposes (R&PP) Act, as amended. The town of Philipsburg applied for conveyance under the R&PP Act and proposes to use the lands for a park and walking trails that will increase public recreation opportunities in the area.

DATES: Submit written comments regarding this classification and R&PP application on or before May 19, 2023.

ADDRESSES: Written comments may be mailed, or hand delivered to the BLM, Missoula Field Office, 3255 Fort Missoula Road, Missoula, MT 59808. Comments may also be submitted electronically at BLM_MT_Missoula_FO@blm.gov. The BLM will not consider comments received by telephone.

FOR FURTHER INFORMATION CONTACT: Lonna Sandau, Realty Specialist, telephone: (406) 329-3914, email: lsandau@blm.gov.

Individuals in the United States who are deaf, deafblind, hard of hearing, or have a speech disability may dial 711 (TTY, TDD, or TeleBraille) to access telecommunications relay services for contacting Lonna Sandau. Individuals outside the United States should use the relay services offered within their country to make international calls to the point-of-contact in the United States.

SUPPLEMENTARY INFORMATION: The lands have been examined as described in an environmental assessment (DOI-BLM-MT-B010-2020-0007-EA) and identified as suitable for conveyance under the R&PP Act. Conveyance would be in conformance with the 2020 Missoula Field Office Resource Management Plan. The lands are legally described as:

Principal Meridian, Montana

T. 7 N., R. 13 W.,

sec. 30, lots 10 and 15.

T. 7 N., R. 14 W.,

sec. 24, lots 5 and 13;

sec. 25, lots 15, 16, 20, and 24.

The areas described aggregate 15.59 acres.

The town of Philipsburg lies in a scenic valley surrounded by mountains and great views but with limited opportunities for hiking or walking trails close to town. The proposal for a park and walking trails would be adjacent to the town, providing access and recreational opportunity. While much of the land would remain open, the town proposes to construct walking trails, including improvement of an existing trail to reduce grades and improve drainage and tread width, install signs, and construct a parking lot, with picnic tables and other amenities as funds become available. The walking trails proposed for the public lands requested for conveyance under the R&PP Act would connect with trails that cross Philipsburg streets, public roads, and Philipsburg property to make an integrated recreational network.

When public lands are conveyed under the R&PP Act, the United States retains a reversionary interest, and any future development would not be allowed without written pre-approval by the BLM. The BLM monitors reversionary interests in perpetuity to ensure R&PP patent holders use their conveyed lands for the purposes for which they received them. The lands are not needed for any Federal purposes, and this conveyance would be in the local and regional interest.

All interested parties will receive a copy of this notice once it is published in the Federal Register. A copy of the notice will also be published in the newspaper of local circulation once a week for 3 consecutive weeks.

Upon publication of this notice in the Federal Register, the lands will be segregated from all other forms of appropriation under the public land laws, including location under the mining laws, except for lease or conveyance under the R&PP Act and leasing under the mineral leasing laws. The segregation will terminate upon issuance of a patent, upon final rejection of the application, or 18 months from the date of this notice, whichever occurs first.

The conveyance of the lands, if it occurs, will be subject to the following terms, conditions, and reservations:

1. A right-of-way thereon for ditches and canals constructed by the authority of the United States pursuant to the Act of August 30, 1890 (43 U.S.C. 945).

2. Provisions of the R&PP Act and all applicable regulations of the Secretary of the Interior.

3. All mineral deposits in the lands so patented and the right to prospect for, mine, and remove such deposits from the same under applicable law and regulations as established by the Secretary of the Interior are reserved to the United States, together with all necessary access and exit rights.

4. Conveyance of the parcels is subject to valid existing rights.

5. An appropriate indemnification clause protecting the United States from claims arising out of the patentee's use, occupancy, or operations on the patented lands.

6. Any other reservations that the authorized officer determines appropriate to ensure public access and proper management of Federal lands and interests therein.

7. A reversionary provision stating that title shall revert to the United States upon a finding, after notice and opportunity for a hearing, that, without the approval of the Secretary of the Interior or her delegate, the patentee or its approved successor attempted to convey title to or control over the lands to another, the lands have been devoted to a use other than that for which the lands were conveyed, the lands have not been used for the purpose for which the lands were conveyed for a 5-year period, or the patentee has failed to follow the approved development plan or management plan. No portion of the lands shall, under any circumstance, revert to the United States if any such portion has been used for solid waste disposal or for any other purpose which may result in the disposal, placement, or release of any hazardous substance.

Classification Comments: Interested persons may submit comments involving the suitability of the lands for development of a park and walking trails. Comments on the classification are restricted to whether the lands are physically suited for the proposal, whether the use will maximize the future use or uses of the lands, whether the use is consistent with local planning and zoning, or if the use is consistent with State and Federal programs.

Application Comments: Interested persons may submit comments regarding the specific use proposed in the application and plan of development and management, whether the BLM followed proper administrative procedures in reaching the decision, or any other factor not directly relating to the suitability of the lands for use as a park or walking trails.

Any adverse comments will be reviewed by the BLM Montana/Dakotas State Director or other authorized official of the Department of the Interior, who may sustain, vacate, or modify this realty action. In the absence of any adverse comments, the classification will become effective on June 5, 2023. The lands will not be offered for conveyance until after the classification becomes effective.

Before including your address, phone number, email address, or other personal identifying information in any comment, be aware that your entire comment, including your personal identifying information, may be made publicly available at any time. While you can ask us in your comment to withhold your personal identifying information from public review, we cannot guarantee that we will be able to do so.

(Authority: 43 CFR 2741.5).

Erin Carey,
Field Manager, Missoula Field Office.

[FR Doc. 2023-06994 Filed 4-3-23; 8:45 am]

BILLING CODE 4331-20-P